DEPARTMENT OF ENERGY

Federal Energy Regulatory Commission

Combined Notice of Filings # 1

February 15, 2008.

Take notice that the Commission received the following electric corporate filings:

Docket Numbers: EC08-15-000.

Applicants: Calpine Corporation and Its Public Utili; Harbinger Capital Partners Master Fund I; Harbinger Capital Partners Special Situa; SPO Partners II, L.P.; San Francisco Partners II, L.P.

Description: Calpine Corporation et al submits a Notification of Change in Circumstances in compliance with Ordering Paragraph 7 of FERC's 12/31/07 Order.

Filed Date: 02/05/2008.

Accession Number: 20080214-0060.

Comment Date: 5 p.m. Eastern Time on Tuesday, February 26, 2008.

Take notice that the Commission received the following exempt wholesale generator filings:

Docket Numbers: EG08-36-000.

Applicants: High Prairie Wind Farm II, LLC.

Description: Notice of Self Certification of Exempt Wholesale Generator Status of High Prairie Wind Farm II, LLC.

Filed Date: 02/13/2008.

Accession Number: 20080213-5044.

Comment Date: 5 p.m. Eastern Time on Wednesday, March 05, 2008.

Docket Numbers: EG08-37-000.

Applicants: Old Trail Wind Farm, LLC.

Description: Notice of Self Certification of Exempt Wholesale Generator Status of Old Trail Wind Farm, LLC.

Filed Date: 02/13/2008.

Accession Number: 20080213-5046.

Comment Date: 5 p.m. Eastern Time on Wednesday, March 05, 2008.

Docket Numbers: EG08-38-000.

Applicants: Telocaset Wind Power Partners, LLC.

Description: Notice of Self Certification of Exempt Wholesale Generator Status of Telocaset Wind Power Partners, LLC.

Filed Date: 02/13/2008.

Accession Number: 20080213-5047.

Comment Date: 5 p.m. Eastern Time on Wednesday, March 05, 2008.

Take notice that the Commission received the following electric rate filings:

Docket Numbers: ER96-149-012; ER97-2414-011.

Applicants: Lowell Cogeneration Company Limited Partnership; Dartmouth Power Associates Limited Partnership.

Description: Lowell Cogeneration Company Limited Partnership submits notice of change.

Filed Date: 02/12/2008.

Accession Number: 20080214-0049.

Comment Date: 5 p.m. Eastern Time on Tuesday, March 04, 2008.

Docket Numbers: ER01-1011-014; 20080214-0047; ER01-1335-012; ER01-642-010; ER07-312-002.

Applicants: CottonWood Energy Company, LP; Dogwood Energy, LLC; Magnolia Energy, LP; Redbud Energy, LP.

Description: Cottonwood Energy Co, LP et al submits notice of change in status.

Filed Date: 02/12/2008.

Accession Number: 20080214-0047.

Comment Date: 5 p.m. Eastern Time on Tuesday, March 04, 2008.

Docket Numbers: ER02-1633-004; ER04-1099-003; ER03-25-003; ER00-38-006; ER03-290-004; ER00-1115-005; ER04-1080-003; ER00-3562-005; ER03-209-004; ER05-816-002; ER05-1422-004; ER05-819-002; ER05-820-002; ER05-48-002; ER04-831-004; ER03-36-006; ER02-1367-004; ER03-446-004; ER03-341-004; ER03-342-004; ER02-1959-004; ER02-2227-006; ER06-441-001; ER02-600-007; ER99-1983-005; ER01-2688-009; ER02-2229-005; ER02-1257-004; ER03-24-005; ER04-1221-001; ER05-67-002; ER01-480-005; ER05-68-002; ER04-1081-003; ER03-838-005; ER03-49-003; ER99-970-005; ER03-1288-003; ER07-1335-003; ER01-2887-006; ER04-1100-003; ER02-1319-005; ER06-754-003; ER06-755-002; ER06-749-002; ER06-751-003; ER06-753-002; ER06-741-002; ER06-756-002; ER06-750-002; ER06-742-002; ER06-752-002.

Applicants: Auburndale Peaker Energy Center, LLC; Bethpage Energy Center 3, LLC; Blue Spruce Energy Center, LLC; Broad River Energy, LLC; Calpine California Equipment Finance Company, LLC; Calpine Construction Finance Company, LP; Calpine Energy Management, LP; Calpine Energy Services, LP; CES Marketing V, LLC; CES Marketing VI, LP; Calpine Merchant Services Company, Inc.; CES Marketing IX, LLC; CES Marketing X, LLC; Calpine Bethpage 3, LLC; Calpine Newark, LLC; Calpine Northbrook Energy Marketing, LLC; Calpine Oneta Power, LP; Calpine Philadelphia, Inc.; Calpine Power America—OR, LLC; Calpine Power America—CA, LLC; CPN Bethpage 3rd Turbine, Inc.; Creed Energy Center, LLC; Decatur Energy Center, LLC; Delta Energy Center, LLC; Geyers Power Company, LLC; Gilroy Energy Center, LLC; Goose Haven Energy Center, LLC; Hermiston Power Partnership; Los Esteros Critical Energy Facility, LLC; Mankato Energy Center, LLC; Metcalf Energy Center, LLC; Mobile Energy, LLC; Pastoria Energy Center, LLC; PCF2, LLC; Power Contract Financing, LLC; Riverside Energy Center, LLC; RockGen Energy, LLC; Rocky Mountain Energy Center, LLC; Santa Rosa Energy Center, LLC; South Point Energy Center, LLC; Zion Energy LLC; Auburndale Power Partners, LP; Calpine Gilroy Cogen, LP; Carville Energy, LLC; Columbia Energy, LLC; CPN Pryor Funding Corporation; KIAC Partners; Los Medanos Energy Center, LLC; Morgan Energy Center, LLC; Nissequogue Cogen Partners; Pine Bluff Energy, LLC.

Description: Auburndale Peaker Energy Center, LLC et al submits a joint notification of changes in status.

Filed Date: 01/31/2008.

Accession Number: 20080214-0050.

Comment Date: 5 p.m. Eastern Time on Thursday, February 21, 2008.

Docket Numbers: ER03-1331-003; ER99-1722-005.

Applicants: Williams Power Company, Inc.

Description: Notice of Change in Status of Williams Gas Marketing, Inc.

Filed Date: 02/14/2008.

Accession Number: 20080214-5047.

Comment Date: 5 p.m. Eastern Time on Thursday, March 06, 2008.

Docket Numbers: ER08-67-001.

Applicants: Ameren Services Company.

Description: Union Electric Company submits a report concerning refunds provided to the City of Farmington, Missouri.

Filed Date: 01/28/2008.

Accession Number: 20080130-0077.

Comment Date: 5 p.m. Eastern Time on Tuesday, February 19, 2008.

Docket Numbers: ER07-169-002.

Applicants: Ameren Energy Marketing Company.

Description: Refund Report of Ameren Energy Marketing Company.

Filed Date: 02/14/2008.

Accession Number: 20080214-5036.

Comment Date: 5 p.m. Eastern Time on Thursday, March 06, 2008.

Docket Numbers: ER08-92-001.

Applicants: Virginia Electric and Power Company.

Description: Virginia Electric and Power Company requests an extension of time to provide responses to Questions 1 and 2 of the FERC Staff's 12/19/07 deficiency letter until 2/29/08.

Filed Date: 02/12/2008.

Accession Number: 20080214-0057.

Comment Date: 5 p.m. Eastern Time on Tuesday, March 04, 2008.

Docket Numbers: ER08-116-000.

Applicants: Avista Corporation.

Description: Withdrawal of Filing of Avista Corporation.

Filed Date: 02/12/2008.

Accession Number: 20080211-5113.

Comment Date: 5 p.m. Eastern Time on Tuesday, March 04, 2008.

Docket Numbers: ER08-124-001.

Applicants: Dynegy Oakland, LLC.

Description: Dynegy Oakland, LLC submits a request for an Annual Fee In Lieu of a Return to be included in the calculation of the Annual Fixed Revenue Requirement for Contract Year 2008.

Filed Date: 02/13/2008.

Accession Number: 20080214-0020.

Comment Date: 5 p.m. Eastern Time on Wednesday, March 05, 2008.

Docket Numbers: ER08-127-000.

Applicants: Avista Corporation.

Description: Withdrawal of Filing of Avista Corporation.

Filed Date: 02/12/2008.

Accession Number: 20080211-5112.

Comment Date: 5 p.m. Eastern Time on Tuesday, March 04, 2008.

Docket Numbers: ER08-234-001.

Applicants: EWO Marketing, LP.

Description: EWO Marketing, LP submits compliance filing.

Filed Date: 02/12/2008.

Accession Number: 20080213-0087.

Comment Date: 5 p.m. Eastern Time on Tuesday, March 04, 2008.

Docket Numbers: ER08-553-000.

Applicants: Southern California Edison Company.

Description: Southern California Edison Company submits a revised rate sheet to the Amended and Restated Mandalay Generating Station Radial Lines Agreement with Reliant Energy Mandalay Inc.

Filed Date: 02/12/2008.

Accession Number: 20080213-0083.

Comment Date: 5 p.m. Eastern Time on Tuesday, March 04, 2008.

Docket Numbers: ER08-554-000.

Applicants: Allegheny Power.

Description: Allegheny Power requests acceptance of the revisions to its FERC Electric Tariff, Second Revised Volume 6 to go into effect 3/14/08.

Filed Date: 02/12/2008.

Accession Number: 20080213-0084.

Comment Date: 5 p.m. Eastern Time on Tuesday, March 04, 2008.

Docket Numbers: ER08-555-000.

Applicants: ISO New England Inc.

Description: ISO New England, Inc submits its Capital Projects Report and schedule of the unamortized costs of the ISO's funded capital expenditures for the quarter ending 12/31/07.

Filed Date: 02/12/2008.

Accession Number: 20080213-0085.

Comment Date: 5 p.m. Eastern Time on Tuesday, March 04, 2008.

Docket Numbers: ER08-556-000; ER06-615-020.

Applicants: California Independent System Operator Corp.

Description: California Independent System Operator Corporation submits proposed amendments to the approved MRTU Tariff to implement an Interim Capacity Procurement Mechanism.

Filed Date: 02/08/2008.

Accession Number: 20080213-0088.

Comment Date: 5 p.m. Eastern Time on Friday, February 29, 2008.

Docket Numbers: ER08-557-000.

Applicants: Xcel Energy Services, Inc.

Description: Public Service Company of Colorado submits Notice of Cancellation for 39 legacy point to point transmission service agreements etc.

Filed Date: 02/13/2008.

Accession Number: 20080214-0018.

Comment Date: 5 p.m. Eastern Time on Wednesday, March 05, 2008.

Docket Numbers: ER08-558-000.

Applicants: WSPP Inc.

Description: WSPP, Inc submits a request to amend the WSPP Agreement to include Entergy Texas Inc et al.

Filed Date: 02/13/2008.

Accession Number: 20080214-0019.

Comment Date: 5 p.m. Eastern Time on Wednesday, March 05, 2008.

Docket Numbers: ER08-560-000.

Applicants: New York Independent System Operator, Inc.

Description: New York Independent System Operator, Inc submits proposed Attachment BB to its Open Access Transmission Tariff to incorporate a New York State Gas-Electric Coordination Protocal in is tariff sheets.

Filed Date: 01/31/2008.

Accession Number: 20080214-0021.

Comment Date: 5 p.m. Eastern Time on Thursday, February 21, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-3434 Filed 2-22-08; 8:45 am]

BILLING CODE 6717-01-P